DEPARTMENT OF THE INTERIOR

National Park Service

Notice of Inventory Completion: Field Museum of Natural History, Chicago, IL

AGENCY: National Park Service, Interior.

ACTION: Notice.

Notice is here given in accordance with the Native American Graves Protection and Repatriation Act (NAGPRA), 25 U.S.C. 3003, of the completion of an inventory of human remains in the possession of the Field Museum of Natural History, Chicago, IL. The human remains were removed from Howkan, AK.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by Field Museum of Natural History professional staff in consultation with representatives of the Hydaburg Cooperative Association.

In 1902, human remains representing a minimum of one individual were removed from a grave south of Howkan, AK, by Charles F. Newcombe for the Field Museum of Natural History (Field Museum of Natural History accession number 850, catalog number 40935). No known individual was identified. No associated funerary objects are present.

The human remains have been identified as Native American, based on the specific cultural and geographic attribution in Field Museum of Natural History records. The records identify the human remains as “Kaigani Haida” and “From Shaman's grave south of Howkan.” Scholarly publications and consultation information provided by the Hydaburg Cooperative Association indicate that Howkan is considered to be within the traditional territory of the Kaigani Haida. The Kaigani Haida are represented by the Hydaburg Cooperative Association.

Officials of the Field Museum of Natural History have determined that, pursuant to 25 U.S.C. 3001 (9-10), the human remains described above represent the physical remains of one individual of Native American ancestry. Officials of the Field Museum of Natural History also have determined that, pursuant to 25 U.S.C. 3001 (2), there is a relationship of shared group identity that can be reasonably traced between the Native American human remains and the Hydaburg Cooperative Association.

Representatives of any other Indian tribe that believes itself to be culturally affiliated with the human remains should contact Helen Robbins, Repatriation Director, Field Museum of Natural History, 1400 S. Lake Shore Drive, Chicago, IL 60605, telephone (312) 665-7317, before February 4, 2010. Repatriation of the human remains to the Hydaburg Cooperative Association may proceed after that date if no additional claimants come forward.

The Field Museum is responsible for notifying the Hydaburg Cooperative Association that this notice has been published.

Dated: November 19, 2009
Sherry Hutt,
Manager, National NAGPRA Program.

[FR Doc. E9-31219 Filed 1-4-10; 8:45 am]

BILLING CODE 4312-50-S